DEPARTMENT OF HOMELAND SECURITY

Federal Emergency Management Agency

[Docket ID: FEMA-2009-0001]

Agency Information Collection Activities: Submission for OMB Review; Comment Request, OMB No. 1660-NEW; FEMA Preparedness Grants: Freight Rail Security Grant Program (FRSGP)

AGENCY: Federal Emergency Management Agency, DHS.

ACTION: Notice; 30-day notice and request for comments; new information collection; OMB No. 1660-NEW; FEMA Form 089-6, FRSGP Investment Justification.

SUMMARY: The Federal Emergency Management Agency (FEMA) has submitted the information collection abstracted below to the Office of Management and Budget for review and clearance in accordance with the requirements of the Paperwork Reduction Act of 1995. The submission describes the nature of the information collection, the categories of respondents, the estimated burden (i.e., the time, effort and resources used by respondents to respond) and cost, and the actual data collection instruments FEMA will use.

DATES: Comments must be submitted on or before March 26, 2010.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Office of Records Management, 1800 South Bell Street, Arlington, VA 20598-3005, facsimile number (202) 646-3347, or e-mail address FEMA-Information-Collections@dhs.gov.

Collection of Information

Title: FEMA Preparedness Grants: Freight Rail Security Grant Program (FRSGP). The title has changed since publication of the 60-day Federal Register Notice at 74 FR 48090, Sept. 21, 2009.

Type of Information Collection: New information collection.

OMB Number: 1660-NEW. The OMB Number has changed since publication of the 60-day Federal Register Notice at 74 FR 48090, Sept. 21, 2009.

Form Titles and Numbers: FEMA Form 089-6, FRSGP Investment Justification.

Abstract: The FRSGP Investment Justification is submitted with the application which provides narrative details on proposed investments. These Investment Justifications (IJ) must demonstrate how proposed projects address gaps and deficiencies in current programs and capabilities and the ability to provide enhancements consistent with the purpose of the program and guidance provided by FEMA. The data from the IJ is collected to assist decision-making at all levels, although, it is primarily used by individual application reviewers. FRSGP application data, including the IJ, is evaluated to determine which applications are the highest-scoring and address the program priorities stated in the grant guidance.

Affected Public: Business or other for-profit.

Estimated Number of Respondents: 400.

Frequency of Response: On occasion.

Estimated Average Hour Burden per Respondent: 24 hours.

Estimated Total Annual Burden Hours: 9,600 hours.

Estimated Cost: There are no annual reporting or recordkeeping costs associated with this collection.

Larry Gray,
Director, Office of Records Management, Office of Management, Federal Emergency Management Agency, Department of Homeland Security.

[FR Doc. 2010-3599 Filed 2-23-10; 8:45 am]

BILLING CODE 9111-78-P